FEDERAL COMMUNICATIONS COMMISSION

47 CFR Part 73

[DA 01-273; MM Docket No. 00-222, RM-10002; MM Docket No. 00-223, RM-10003; MM Docket No. 00-224, RM-10004; MM Docket No. 00-225, RM-10005]

Radio Broadcasting Services; North English, IA; Pendleton, SC; Hamilton TX; Munday, TX

AGENCY: Federal Communications Commission.

ACTION: Final rule.

SUMMARY: This document grants four proposals that allot new channels to North English, Iowa; Pendleton, South Carolina; Hamilton, Texas; and Munday, Texas. Filing windows for Channel 246A at North English, Iowa; Channel 240A at Pendleton, South Carolina; Channel 299A at Hamilton, Texas; and Channel 270C1 at Munday, Texas, will not be opened at this time. Instead, the issue of opening a filing window for these channels will be addressed by the Commission in a subsequent order.

DATES: Effective March 19, 2001.

FOR FURTHER INFORMATION CONTACT: R. Barthen Gorman, Mass Media Bureau, (202) 418-2180.

SUPPLEMENTARY INFORMATION: This is a synopsis of the Commission's Report and Order in MM Docket No. 00-222; MM Docket No. 00-223; MM Docket No. 00-224; and MM Docket No. 00-225; adopted January 24, 2001, and released February 2, 2001. The full text of this Commission decision is available for inspection and copying during normal business hours in the FCC Reference Information Center (Room CY-A257), 445 12th Street, SW., Washington, DC. The complete text of this decision may also be purchased from the Commission's copy contractor, International Transcription Service, Inc., (202) 857-3800, 1231 20th Street, NW., Washington, DC 20036.

The Commission, at the request of Iowa-Keokuk Radio (Russell Johnson, sole proprietor) allots Channel 246A at North English, Iowa, as the community's first local aural transmission service. See 65 FR 69724 (November 20, 2000). Channel 246A can be allotted at North English in compliance with the Commission's minimum distance separation requirements with a site restriction of 7.7 kilometers (4.8 miles) southwest in order to protect the signal of Station WMT-FM, Cedar Rapids, Iowa, on Channel 243C1. The coordinates for Channel 246A at North English are 41-27-15 North Latitude and 92-07-21 West Longitude.

The Commission, at the request of H. David Hedrick, allots Channel 240A at Pendleton, South Carolina, as the community's first local aural transmission service. See 65 FR 69724 (November 20, 2000). Channel 240A can be allotted to Pendleton in compliance with the Commission's minimum distance separation requirements at city reference coordinates. The coordinates for Channel 240A at Pendleton are 34-38-49 North Latitude and 82-46-37 West Longitude.

The Commission, at the request of Stargazer Broadcasting, Inc., allots Channel 299A at Hamilton, Texas, as the community's second local aural transmission service and first local FM broadcast service. See 65 FR 69724 (November 20, 2000). Channel 299A can be allotted at Hamilton in compliance with the Commission's minimum distance separation requirements with a site restriction of 11.4 kilometers (7.1 miles ) northwest, in order to protect the signal of Station KAHK(FM), Georgetown, Texas, on Channel 299C3. The coordinates for Channel 299A at Hamilton are 31-46-54 North Latitude and 98-12-08 West Longitude.

The Commission, at the request of MAREE Communications, allots Channel 270C1 at Munday, Texas, as the community's first local aural transmission service. See 65 FR 69724 (November 20, 2000). Channel 270C1 can be allotted at Munday in compliance with the Commission's minimum distance separation requirements with a site restriction of 25 kilometers (15.5 miles) northwest, in order to protect the signals of Station KWFR(FM), San Angel, Texas, on Channel 270C1 and Station KZMP-FM, Axle, Texas, on Channel 269C. The coordinates for Channel 270C1 at Munday are 33-37-48 North Latitude and 99-46-57 West Longitude.

List of Subjects in 47 CFR Part 73

Radio broadcasting.

Part 73 of Title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Iowa, is amended by adding North English, Channel 246A.

3. Section 73.202(b), the Table of FM Allotments under South Carolina, is amended by adding Pendleton, Channel 240A.

4. Section 73.202(b), the Table of FM Allotments under Texas, is amended by adding Channel 299A at Hamilton and Channel 270C1 at Munday.

Federal Communications Commission.
John A. Karousos,
Chief, Allocations Branch, Policy and Rules Division, Mass Media Bureau.

[FR Doc. 01-3959 Filed 2-15-01; 8:45 am]

BILLING CODE 6712-01-P